DEPARTMENT OF HEALTH AND HUMAN SERVICES

National Institutes of Health

Clinical Center; Amended Notice of Meeting

Notice is hereby given of a change in the meeting of the Board of Governors of the Warren Grant Magnuson Clinical Center, June 1, 2001, 9 a.m. to June 1, 2001, 1:30 PM, National Institutes of Health, Clinical Center Medical Board Room, 2C116, 9000 Rockville Pike, Bethesda, MD, 20892 which was published in the Federal Register on April 19, 2001, 66 FR 20157.

This meeting will be closed to the public in accordance with the provisions set forth in sections 552b(c)(6), Title 5 U.S.C., as amended from 12:30 p.m. to 1 p.m. The meeting is partially Closed to the public.

Dated: May 10, 2001.
LaVerne Y. Stringfield,
Director, Office of Federal Advisory Committee Policy.

[FR Doc. 01-12459 Filed 5-16-01; 8:45 am]

BILLING CODE 4140-01-M